DEPARTMENT OF ENERGY

Federal Energy Regulatory Commission

[Docket No. RP02-351-000]

Discovery Gas Transmission LLC; Notice of Lost and Unaccounted for Gas Filing and Proposed Tariff Changes

June 6, 2002.

Take notice that on May 31, 2002, Discovery Gas Transmission LLC (Discovery) filed to comply with the terms of its FERC Gas Tariff relating to lost and unaccounted for gas for the calendar year 2001, and tendered for filing as part of its FERC Gas Tariff, Original Volume No. 1, the following tariff sheets, to become effective July 1, 2002:

Second Revised Sheet No. 33

Second Revised Sheet No. 44

Second Revised Sheet No. 53

Discovery states that the revised tariff sheets replace the original retention percentage of 0.5% with 0.1% for lost and unaccounted for gas.

Discovery states that Attachment A to the filing includes the lost and unaccounted for gas recovery factor calculations for 2001 and corrections to volumes for the years 1998, 1999 and 2000.

Discovery states that copies of the filing are being mailed to affected customers and interested State Commissions.

Any person desiring to be heard or to protest said filing should file a motion to intervene or a protest with the Federal Energy Regulatory Commission, 888 First Street, NE, Washington, DC 20426, in accordance with Sections 385.214 or 385.211 of the Commission's Rules and Regulations. All such motions or protests must be filed on or before June 13, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14889 Filed 6-12-02; 8:45 am]

BILLING CODE 6717-01-P